DEPARTMENT OF LABOR

Employment and Training Administration

[TA-W-52,625]

TRW Automotive, Rushford, Minnesota; Notice of Termination of Investigation

Pursuant to section 221 of the Trade Act of 1974, as amended, an investigation was initiated on August 20, 2003, in response to a worker petition filed by a State agency representative on behalf of workers at TRW Automotive, Rushford, Minnesota.

The petitioner has requested that the petition be withdrawn. Consequently, the investigation has been terminated.

Signed at Washington, DC, this 26th day of August 2003.
Elliott S. Kushner,
Certifying Officer, Division of Trade Adjustment Assistance.

[FR Doc. 03-23711 Filed 9-16-03; 8:45 am]

BILLING CODE 4510-30-P